FEDERAL TRADE COMMISSION

Public Workshop: Peer-to-Peer File-Sharing Technology: Consumer Protection and Competition Issues

AGENCY: Federal Trade Commission (FTC).

ACTION: Notice of Extension of Public Comment Period.

SUMMARY: The FTC issues an amendment to its Notice Announcing Public Workshop and Requesting Public Comment, extending the time period during which persons may submit written comments on the issues to be addressed by the public workshop until January 18, 2005.

DATES: Comments must be received by January 18, 2005.

ADDRESSES: Comments should refer to “P2P File-Sharing Workshop—Comment, P034517” to facilitate the organization of comments. A comment filed in paper form should include this reference both in the text and on the envelope, and should be mailed or delivered to the following address: Federal Trade Commission/Office of the Secretary, Room 159-H (Annex B), 600 Pennsylvania Avenue, NW., Washington, DC 20580. The FTC is requesting that any comment filed in paper form be sent by courier or overnight service, if possible, because U.S. postal mail in the Washington area and at the Commission is subject to delay due to heightened security precautions.

Comments containing confidential material must be filed in paper form, must be clearly labeled “Confidential,” and must comply with Commission Rule 4.9(c). 16 CFR 4.9(c) (2004).¹

¹ Commission Rule 4.2(d), 16 CFR 4.2(d). The comment must also be accompanied by an explicit request for confidential treatment, including the factual and legal basis for the request, and must identify the specific portions of the comment to be withheld from the public record. The request will be granted or denied by the Commission's General Counsel, consistent with applicable law and the public interest. See Commission Rule 4.9(c), 16 CFR 4.9(c).

Comments filed in electronic form should be submitted by clicking on the following weblink: https://secure.commentworks.com/ftc-p2pfilesharing/ and following the instructions on the web-based form. To ensure that the Commission considers an electronic comment, you must file it on the web-based form at the https://secure.commentworks.com/ftc-p2pfilesharing/ weblink.

The FTC Act and other laws the Commission administers permit the collection of public comments to consider and use in this proceeding as appropriate. All timely and responsive public comments received by the Commission, whether filed in paper or in electronic form, will be considered by the Commission, and will be available to the public on the FTC Web site, to the extent practicable, at http://www.ftc.gov. As a matter of discretion, the FTC makes every effort to remove home contact information for individuals from public comments it receives before placing those comments on the FTC Web site. More information, including routine uses permitted by the Privacy Act, may be found in the FTC's privacy policy, at http://www.ftc.gov/privacy.htm.

FOR FURTHER INFORMATION CONTACT: Elizabeth Delaney, (202) 326-2903, Bureau of Consumer Protection; Theodore Gebhard, (202) 326-3699, Bureau of Competition; or Hajime Hadeishi, (202) 326-2320, Bureau of Economics. The above staff can be reached by mail at: Federal Trade Commission, 600 Pennsylvania Avenue, NW., Washington, DC 20580. Additional information about the workshop is posted on the FTC's Web site at http://www.ftc.gov/bcp/workshops/filesharing/index.htm.

SUPPLEMENTARY INFORMATION:

Background and Workshop Goals

On December 15 and 16, 2004, the FTC is planning to host a public workshop, “Peer-to-Peer File-Sharing Technology: Consumer Protection and Competition Issues.” The FTC's workshop is intended to provide an opportunity to learn how P2P file-sharing works and to discuss current and future applications of the technology. It will discuss the risks to consumers related to file-sharing activities. The workshop also will address self-regulatory initiatives, technological efforts, and legislative proposals. It will discuss competition issues such as the models for distributing music and the impact of file-sharing on copyright holders. Questions to be addressed at the workshop are set forth in the Commission's Notice Announcing Public Workshop and Requesting Public Comment, published in the Federal Register on October 21, 2004.

Extension of Time for Filing Comments

The FTC is extending the time period during which public comments may be submitted. Interested parties may submit written comments on the published questions and other issues addressed by the workshop until January 18, 2005. Especially useful are any studies, surveys, research, and empirical data. All comments should be filed as prescribed in the ADDRESSES section above, and must be received by January 18, 2005.

By direction of the Commission.
Donald S. Clark,
Secretary.

[FR Doc. 04-25555 Filed 11-17-04; 8:45 am]

BILLING CODE 6750-01-M